DEPARTMENT OF HEALTH AND HUMAN SERVICES

Administration for Children and Families

Submission for OMB Review; Comment Request

Title: Childhood & Family Experiences Study.

OMB No.: New Collection.

Description: The Administration for Children and Families (ACF), U.S. Department of Health and Human Services (HHS) is proposing data collection activities as part of a project to understand how public programs can better serve low-income families. The Childhood & Family Experiences study, will examine the perspectives and lived experiences of children and families living in poverty. This qualitative study intends to use this information to increase understanding of the lives of children in poverty and their families in order to improve how human services programs can help families achieve self-sufficiency.

This Federal Register Notice provides the opportunity to comment on proposed new information collection activities for this study: (1) Adult interviews will collect information about household income and finances, conversations parents have with their children about finances, and their experiences, if applicable, receiving public benefits. (2) Adolescent interviews will collect information about adolescents' understanding of their family's economic circumstances, how they communicate with their parents about them, and how they feel about these circumstances, including public benefits, if applicable. (3) Child interviews will collect information about children's understanding of their family's economic circumstances, how they communicate with their parents about them, and how they feel about these circumstances, including public benefits, if applicable. (4) A phone screener will be used with prospective families to assess their eligibility for the study and, for those who are eligible, provide them with additional materials about the study, including any risks, to assess their interest in participating.

Respondents: Children and their parents who are living in poverty.

Annual Burden Estimates
Instrument | Total number of respondents | Annual number of respondents | Number of responses per respondent | Average burden hours per response | Annual burden hours
Adult Interview Guide | 45 | 15 | 1 | 1.5 | 23
Adolescent Interview Guide | 20 | 7 | 1 | .875 | 6
Child Interview Guide | 30 | 10 | 1 | .50 | 5
Phone Screener for Prospective Families | 120 | 40 | 1 | .50 | 20

Estimated Total Annual Burden Hours: 54.

Additional Information: Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary B. Jones,
ACF/OPRE Certifying Officer.

[FR Doc. 2018-15830 Filed 7-24-18; 8:45 am]

BILLING CODE 4184-09-P